DEPARTMENT OF LABOR

Office of Workers' Compensation Programs

Division of Federal Employees' Compensation; Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements can be properly assessed. Currently, DOL is soliciting comments for a new collection, FECA Contractor Surveys. A copy of the proposed information collection request (ICR) can be obtained by contacting the individual listed below in the ADDRESSES section of this notice.

DATES: Written comments must be submitted to the office listed in the addresses section below on or before August 17, 2010.

ADDRESSES: Mr. Vincent Alvarez, U.S. Department of Labor, 200 Constitution Ave., NW., Room S-3201, Washington, DC 20210, telephone (202) 693-0372, fax (202) 693-1378, E-mail Alvarez.Vincent@dol.gov. Please use only one method of transmission for comments (mail, fax, or E-mail).

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

SUPPLEMENTARY INFORMATION:

I. Background

The Department of Labor (DOL) conducts a variety of voluntary Customer Satisfaction Surveys of regulated/non-regulated entities, which are specifically designed to gather information from a customer's perspective as prescribed by E.O. 12862, Setting Customer Service Standards, September 11, 1993. These Customer Satisfaction Surveys provide information on customer attitudes about the delivery and quality of agency products/services and are used as part of an ongoing process to improve DOL programs. This generic clearance allows agencies to gather information from both Federal and non-Federal users. In addition to conducting Customer Satisfaction Surveys, the Department also includes the use of evaluation forms for those DOL agencies conducting conferences. These evaluations are helpful in determining the success of the current conference, in developing future conferences, and in meeting the needs of the Department's product/service users.

II. Current Actions

This is a new collection. The Federal Employees' Compensation Act provides workers' compensation coverage to three million federal and postal workers around the world for employment-related injuries and occupational diseases. The Division of Federal Employees' Compensation (DFEC) is charged with administering the FECA program. To obtain better feedback regarding various DFEC programs and functions, the DFEC is seeking approval to allow contract personnel such as Continuation of Pay (COP) Nurses, Field Nurses, and Rehabilitation Counselors, the opportunity to participate and provide feedback on DFEC effectiveness. These resources play a vital role in assisting the DFEC with the mission of returning injured employees to gainful employment. To this end, DOL seeks implementation of three separate surveys for this group. These surveys may be used on occasion and a three year approval is requested.

Type of Review: New collection request for OMB Control number.

Agency: Office of Workers' Compensation Programs.

Title: FECA Contractor Surveys.

OMB Number: pending.

Affected Public: Business or other for-profit, Not-for-profit institutions.

Total Respondents: 330.

Total Annual responses: 330.

Average Time per Response: 15 minutes.

Estimated Total Burden Hours: 82.

Frequency: On occasion and usually only one time per respondent.

Total Burden Cost (capital/startup): $0.

Total Burden Cost (operating/maintenance): $10,249.

Comments submitted in response to this notice will be summarized and/or included in the request for Office of Management and Budget approval of the information collection request; they will also become a matter of public record.

Dated: June 15, 2010.
Vincent Alvarez,
Agency Clearance Officer, Office of Workers' Compensation Programs, U.S. Department of Labor.

[FR Doc. 2010-14805 Filed 6-17-10; 8:45 am]

BILLING CODE 4510-CH-P